DEPARTMENT OF ENERGY

Federal Energy Regulatory Commission

Notice of Commission Staff Attendance

The Federal Energy Regulatory Commission (Commission) hereby gives notice that members of the Commission's staff may attend the following joint stakeholder meeting related to the transmission planning activities of PJM Interconnection, L.L.C., ISO New England, Inc., and New York Independent System Operator, Inc.:

Inter-Regional Planning Stakeholder Advisory Committee—New York/New England

May 13, 2013, 1:00 p.m.-3:00 p.m., Local Time

The above-referenced meeting will be held over conference call.

The above-referenced meeting is open to stakeholders.

Further information may be found at www.pjm.com/committees-and-groups/stakeholder-meetings/stakeholder-groups/ipsac-ny-ne.aspx.

The discussions at the meeting described above may address matters at issue in the following proceedings:

Docket No. ER08-1281, New York Independent System Operator, Inc.

Docket No. EL05-121, PJM Interconnection, L.L.C.

Docket No. EL10-52, Central Transmission, LLC v. PJM Interconnection, L.L.C.

Docket No. ER10-253 and EL10-14, Primary Power, L.L.C.

Docket No. EL12-69, Primary Power LLC v. PJM Interconnection, L.L.C.

Docket No. ER11-1844, Midwest Independent Transmission System Operator, Inc.

Docket No. ER12-1178, PJM Interconnection, L.L.C.

Docket No. ER13-90, Public Service Electric and Gas Company and PJM Interconnection, L.L.C.

Docket No. ER13-102, New York Independent System Operator, Inc.

Docket No. ER13-193, ISO New England Inc.

Docket No. ER13-195, Indicated PJM Transmission Owners

Docket No. ER13-196, ISO New England Inc.

Docket No. ER13-198, PJM Interconnection, L.L.C

Docket No. ER13-397, PJM Interconnection, L.L.C.

Docket No. ER13-673, PJM Interconnection, L.L.C

Docket No. ER13-703, PJM Interconnection, L.L.C.

Docket No. ER13-887, PJM Interconnection, L.L.C.

Docket No. ER13-1052, PJM Interconnection, L.L.C. and the Midwest Independent Transmission System Operator, Inc.

Docket No. ER13-1054, PJM Interconnection, L.L.C. and the Midwest Independent Transmission System Operator, Inc.

For more information, contact Jonathan Fernandez, Office of Energy Market Regulation, Federal Energy Regulatory Commission at (202) 502-6604 or jonathan.fernandez@ferc.gov.

Dated: May 10, 2013.
Kimberly D. Bose,
Secretary.

[FR Doc. 2013-11664 Filed 5-15-13; 8:45 am]

BILLING CODE 6717-01-P